DEPARTMENT OF THE TREASURY

Submission for OMB Review; Comment Request

September 23, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 4, 2004 to be assured of consideration.

Internal Revenue Service (IRS)

OMB Number: 1545-1205.

Form Number: IRS Form 8826.

Type of Review: Extension.

Title: Disabled Access Credit.

Description: Code section 44 allows eligible small businesses to claim a non-refundable income tax credit of 50% of the amount of eligible access expenditures for any tax year that exceed $250 but do not exceed $10,250. Form 8826 figures the credit and the tax limit.

Respondents: Business or other for-profit, Individuals or households, Farms.

Estimated Number of Respondents/Recordkeepers: 26,133.

Estimated Burden Hours Respondent/Recordkeeper:

Recordkeeping—6 hr., 13 min.

Learning about the law or the form—42 min.

Preparing and sending the form to the IRS—49 min.

Frequency of response: Annually.

Estimated Total Reporting/Recordkeeping Burden: 202,270 hours.

OMB Number: 1545-1292.

Regulation Project Number: PS-97-91 and PS-101-90 Final.

Type of Review: Extension.

Title: Enhanced Oil Recovery Credit.

Description: This regulation provides guidance concerning the costs subject to the enhanced oil recovery credit, the circumstances under which the credit is available, and procedures for certifying to the Internal Revenue Service that a project meets the requirements of section 43(c) of the Internal Revenue Code.

Respondents: Business or other for-profit, Individuals or households.

Estimated Number of Respondents: 20.

Estimated Burden Hours Respondent: 1 hour, 13 minutes.

Frequency of response: Annually.

Estimated Total Reporting Burden: 1,460 hours.

OMB Number: 1545-1345.

Regulation Project Number: CO-99-91 Final.

Type of Review: Extension.

Title: Limitations on Corporate Net Operating Loss.

Description: This regulation modifies the application of segregation rules under section 382 in the case of certain issuances of stock by a loss corporation. This regulation provides that the segregation rules do not apply to small issuances of stock, as defined, and apply only in part to certain other issuances of stock for cash.

Respondents: Business or other for-profit, Farms.

Estimated Number of Respondents: 1.

Estimated Burden Hours Respondent: 1 hour.

Frequency of response: On occasion.

Estimated Total Reporting Burden: 1 hour.

OMB Number: 1545-1352.

Regulation Project Number: PS-276-76 Final.

Type of Review: Extension.

Title: Treatment of Gain from Disposition of Certain Natural Resource Recapture Property.

Description: This regulation prescribes rules for determining the tax treatment of gain from the disposition of natural resource recapture property in accordance with Internal Revenue Code section 1254. Gain is treated as ordinary income in an amount equal to the intangible drilling and development costs and depletion deductions taken with respect to the property. The information that taxpayers are required to retain will be used by the IRS to determine whether a taxpayer has properly characterized gain on the disposition of section 1254 property.

Respondents: Business of other for-profit, Individuals or households.

Estimated Number of Respondents/Recordkeepers: 400.

Estimated Burden Hours Respondent/Recordkeeper: 5 hours.

Frequency of response: On occasion.

Estimated Total Reporting/Recordkeeping Burden: 2,000 hours.

OMB Number: 1545-1362.

Form Number: IRS Form 8835.

Type of Review: Extension.

Title: Renewable Electricity Production Credit.

Description: Filers claiming the general business credit for electricity produced from certain renewable resources under code sections 38 and 45 must file Form 8835.

Respondents: Business or other for-profit, Individuals or households.

Estimated Number of Respondents/Recordkeepers: 70.

Estimated Burden Hours Respondent/Recordkeeper:

Recordkeeping—9 hr., 48 min.

Learning about the law or the form— 24 min.

Preparing and sending the form to the IRS—34 min.

Frequency of response: On occasion; Annually.

Estimated Total Reporting/Recordkeeping Burden: 755 hours.

Clearance Officer: Paul H. Finger, (202) 622-4078, Internal Revenue Service, Room 6516, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-22305 Filed 10-4-04; 8:45 am]

BILLING CODE 4830-01-P